DEPARTMENT OF COMMERCE

International Trade Administration

[C-570-982]

Utility Scale Wind Towers From the People's Republic of China: Final Results of Expedited Second Sunset Review of the Countervailing Duty Order

AGENCY: Enforcement and Compliance, International Trade Administration, Department of Commerce.

SUMMARY: The U.S. Department of Commerce (Commerce) finds that revocation of the countervailing duty (CVD) order on utility scale wind towers (wind towers) from the People's Republic of China (China) would be likely to lead to continuation or recurrence of a countervailable subsidy at the levels indicated in the “Final Results of Sunset Review” section of this notice.

DATES: Applicable July 26, 2024.

FOR FURTHER INFORMATION CONTACT: John Conniff, AD/CVD Operations, Office III, Enforcement and Compliance, International Trade Administration, U.S. Department of Commerce, 1401 Constitution Avenue NW, Washington, DC 20230; telephone: (202) 482-1009.

SUPPLEMENTARY INFORMATION:

Background

On February 15, 2013, Commerce published the CVD order on wind towers from China.¹ On April 1, 2024, Commerce published the notice of initiation of the second sunset review of the Order, pursuant to section 751(c) of the Tariff Act of 1930, as amended (the Act).²

¹ See Utility Scale Wind Towers from the People's Republic of China: Countervailing Duty Order, 78 FR 11152 (February 15, 2013) (Order).

² See Initiation of Five-Year (Sunset) Review, 87 FR 11416 (March 1, 2022).

On April 15, 2024, Commerce received a timely notice of intent to participate from Wind Tower Trade Coalition (WTTC), within the deadline specified in 19 CFR 351.218(d)(1)(i).³ The WTTC claimed domestic interested party status under section 771(9)(C) and (F) of the Act, as manufacturers of the domestic like product and as an association composed of producers and wholesalers.⁴ On April 30, 2024, the WTTC submitted a timely substantive response within the 30-day deadline specified in 19 CFR 351.218(d)(3)(i).⁵ Commerce did not receive a substantive response from the Government of China, or a respondent or any other interested party to this proceeding. As a result, pursuant to section 751(c)(3)(B) of the Act and 19 CFR 351.218(e)(1)(i)(B)(2) and (C)(2), Commerce conducted an expedited review of the Order.

³ See WTTC's Letter Letter, “Notice of Intent to Participate in Sunset Review,” dated April 15, 2024, at 1.

⁴ Id. at 1-3.

⁵ See WTTC's Letter Letter, “Substantive Response to Notice of Initiation,” dated April 30, 2024.

Scope of the Order

The merchandise covered by this Order are certain wind towers, whether or not tapered, and sections thereof. For a full description of the scope, see the Issues and Decision Memorandum.⁶

⁶ See Memorandum, “Decision Memorandum for the Final Results of Expedited Second Sunset Review of Utility Scale Wind Towers from the People's Republic of China,” dated concurrently with, and hereby adopted by, this notice (Issues and Decision Memorandum).

Analysis of Comments Received

All issues raised in this sunset review are addressed in the Issues and Decision Memorandum, including the likelihood of continuation or recurrence of a countervailable subsidy and the net countervailable subsidy rates likely to prevail if the Order were revoked. A list of topics discussed in the Issues and Decision Memorandum is included as an appendix to this notice. The Issues and Decision Memorandum is a public document and is on file electronically via Enforcement and Compliance's Antidumping and Countervailing Duty Centralized Electronic Service System (ACCESS). ACCESS is available to registered users at https://access.trade.gov. A complete version of the Issues and Decision Memorandum can be accessed directly at https://access.trade.gov/public/FRNotices/ListLayout.aspx.

Final Results of Sunset Review

Pursuant to sections 751(c)(1) and 752(b) of the Act, Commerce determines that revocation of the Order would likely lead to the continuation or recurrence of countervailable subsidies at the following rates:

Company | Subsidy rate (percent ad valorem)
Tianjin Magnesium International Co., Ltd./Tianjin Magnesium Metal Co., Ltd | 21.86
Titan Wind Energy (Suzhou) Co. Ltd. (Titan Wind), Titan Lianyungang, Metal Product Co. Ltd. (Titan Lianyungang), Baotou Titan Wind Power Equipment Co., Ltd. (Titan Baotou), and Shenyang Titan Metal Co., Ltd., (Titan Shenyang) (collectively, Titan Companies) | 34.81
All Others | 28.34

Administrative Protective Order

This notice serves as the only reminder to parties subject to administrative protective order (APO) of their responsibility concerning the destruction of proprietary information disclosed under APO in accordance with 19 CFR 351.305(a). Timely notification of the destruction of APO materials or conversion to judicial protective orders is hereby requested. Failure to comply with the regulations and terms of an APO is a violation which is subject to sanction.

Notification to Interested Parties

Commerce is issuing and publishing these final results and this notice in accordance with sections 751(c), 752(b), and 777(i)(1) of the Act, and 19 CFR 351.218.

Dated: July 16, 2024.
Ryan Majerus,
Deputy Assistant Secretary for Policy and Negotiations, performing the non-exclusive functions and duties of the Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of a Countervailable Subsidy

2. Net Countervailable Subsidy Likely to Prevail

3. Nature of the Subsidy

VII. Final Results of Review

VIII. Recommendation

[FR Doc. 2024-16440 Filed 7-25-24; 8:45 am]

BILLING CODE 3510-DS-P